DEPARTMENT OF COMMERCE

International Trade Administration

[A-533-810]

Stainless Steel Bar From India: Extension of Time Limit for the Preliminary Results of the 2010-2011 Antidumping Duty Administrative Review

AGENCY: Import Administration, International Trade Administration, Department of Commerce.

DATES: Effective Date: October 11, 2011.

FOR FURTHER INFORMATION CONTACT: Joseph Shuler or Yasmin Nair, AD/CVD Operations, Office 1, Import Administration, International Trade Administration, U.S. Department of Commerce, 14th Street and Constitution Avenue, NW., Washington, DC 20230; telephone (202) 482-1293 and (202) 482-3813, respectively.

SUPPLEMENTARY INFORMATION:

Background

On March 31, 2011, the Department of Commerce (Department) published in the Federal Register its initiation of an administrative review of the antidumping duty order on stainless steel bar from India, covering the period February 1, 2010, through January 31, 2011. See Initiation of Antidumping Duty Administrative Reviews, Requests for Revocation in Part, and Deferral of Administrative Review, 76 FR 17825 (March 31, 2011) (Initiation Notice). The preliminary results for this review are currently due no later than October 31, 2011.

Extension of Time Limit for the Preliminary Results of Review

Section 751(a)(3)(A) of the Tariff Act of 1930, as amended (the Act), requires the Department to issue its preliminary results in an administrative review of an antidumping duty order within 245 days after the last day of the anniversary month of the order for which the administrative review was requested. However, if the Department determines that it is not practicable to complete the review within the aforementioned specified time limits, section 751(a)(3)(A) of the Act and 19 CFR 351.213(h)(2) allow the Department to extend the time limit for the preliminary results to a maximum of 365 days after the last day of the anniversary month. See section 751(a)(3)(A) of the Act and 19 CFR 351.213(h)(2).

The Department has determined that it requires additional time to complete the preliminary results for this review. After publishing the Initiation Notice, the Department sent a questionnaire response to Mukand, Ltd., a respondent in the instant review. We received responses to our questionnaire on May 18 and May 31, 2011, but we need additional time to issue supplemental questionnaires based on the responses we received. Further, the Department needs to allow time for parties to review and respond to our supplemental questionnaires. Thus, it is not practicable to complete the preliminary results by October 31, 2011, and the Department is extending the time limit for completion of the final results by an additional 90 days to January 29, 2012. However, January 29, 2012, falls on a Sunday and it is the Department's long-standing practice to issue a determination the next business day when the statutory deadline falls on a weekend, federal holiday, or any other day when the Department is closed. See Notice of Clarification: Application of “Next Business Day” Rule for Administrative Determination Deadlines Pursuant to the Tariff Act of 1930, As Amended, 70 FR 24533 (May 10, 2005). Accordingly, the deadline for completion of the preliminary results is now no later than January 30, 2012.

This notice is published pursuant to sections 751(a)(3)(A) of the Act and 19 CFR 351.213(h)(2).

Dated: October 4, 2011.
Christian Marsh,
Deputy Assistant Secretary for Antidumping and Countervailing Duty Operations.

[FR Doc. 2011-26225 Filed 10-7-11; 8:45 am]

BILLING CODE 3510-DS-P